DEPARTMENT OF EDUCATION

Applications for New Awards; Alaska Native and Native Hawaiian-Serving Institutions Program, Part A

AGENCY: Office of Postsecondary Education, Department of Education.

ACTION: Notice.

SUMMARY: The Department of Education (Department) is issuing a notice inviting applications for new awards for fiscal year (FY) 2025 for the Alaska Native and Native Hawaiian-Serving Institutions (ANNH) Program, Part A Grants.

DATES:

Applications Available: July 14, 2025.

Deadline for Transmittal of Applications: August 13, 2025.

Deadline for Intergovernmental Review: September 12, 2025.

Note: For new potential grantees unfamiliar with grantmaking at the Department, please consult our “Getting Started with Discretionary Grant Applications” web page at https://www.ed.gov/grants-and-programs/apply-grant/getting-started-discretionary-grant-applications.

ADDRESSES: For the addresses for obtaining and submitting an application, please refer to our Common Instructions for Applicants to Department of Education Discretionary Grant Programs, published in the Federal Register on December 23, 2024 (89 FR 104528) and available at www.federalregister.gov/documents/2024/12/23/2024-30488/common-instructions-for-applicants-to-department-of-education-discretionary-grant-programs. Please note that these Common Instructions supersede the version published on December 7, 2022.

FOR FURTHER INFORMATION CONTACT: Robyn Wood, U.S. Department of Education, 400 Maryland Avenue SW, 5th Floor, Washington, DC 20202-4260. Telephone: (202) 987-1577. Email: Robyn.Wood@ed.gov.

If you are deaf, hard of hearing, or have a speech disability and wish to access telecommunications relay services, please dial 7-1-1.

SUPPLEMENTARY INFORMATION:

Full Text of Announcement

I. Funding Opportunity Description

Purpose of Program: The ANNH Program provides grants to eligible institutions of higher education (IHEs) to enable them to improve and expand their capacity to serve Alaska Native and Native Hawaiian students. Institutions may use these grants to plan, develop, or implement activities that strengthen the institution.

Assistance Listing Numbers: 84.031N (Alaska Native) and 84.031W (Native Hawaiian).

OMB Control Number: 1840-0810.

Priorities: This notice contains two invitational priorities, in accordance with 34 CFR 75.105(b)(2)(i).

Invitational Priorities: For FY 2025 and any subsequent year in which we make awards from the list of unfunded applications from this competition, these priorities are invitational priorities. Under 34 CFR 75.105(c)(1), we do not give an application that meets the invitational priority a competitive or absolute preference over other applications.

The priorities are:

Invitational Priority One: Expanding access to distance education, workforce-based options, or shortened time-to-degree models. Applicants should demonstrate how their projects, institutions, or proposals are designed to promote education choice in the following ways:

Expand access to postsecondary distance education, competency-based or skills-based education, pre-apprenticeships, apprenticeships, part-time coursework and career preparation, work-based learning or shortened time-to-degree models, and programs or coursework that lead to high-wage, high-skilled, or in-demand, industry recognized credentials.

Invitational Priority Two: Advancing Artificial Intelligence in Education. Projects that implement or promote greater understanding of Artificial Intelligence (AI) through one or both of the following: (1) supporting the integration of AI tools into the institution's pedagogy or student support services to improve postsecondary educational outcomes for students or (2) expanding students' understanding of artificial intelligence by (a) expanding offerings of AI and computer science courses as part of an institution of higher education's general education curriculum; (b) embedding AI and computer science into an institution of higher education's general preservice or in-service teacher professional development or teacher preparation programs, or (c) targeting additional support to teacher preparation programs that are preparing future computer science educators in K-12 education.

Note: For purposes of this priority (and consistent with the definition proposed in the Secretary's Supplemental Priorities, published in the Federal Register May 21, 2025 (90 FR 21710)), Computer Science means the study of computers and algorithmic processes, including their principles, their hardware and software designs, theories, computational thinking, coding, analytics, applications, and Artificial Intelligence (AI).

Computer science often includes computer programming or coding as a tool to create software, including applications, games, websites, and tools to manage or manipulate data; or development and management of computer hardware and the other electronics related to sharing, securing, and using digital information. In addition to coding, the expanding field of computer science emphasizes computational thinking and interdisciplinary problem-solving to equip students with the skills and abilities necessary to apply computation to the digital world.

Computer science does not involve using computers for everyday tasks, such as browsing the internet or using tools like word processors, spreadsheets, or presentation software. Instead, it focuses on creating and developing technology, not just utilizing it.

Definitions: The definitions below apply to this competition and are from 20 U.S.C. 1059d, 20 U.S.C. 7517, 20 U.S.C 7546, 43 U.S.C. 1602, and 34 CFR 77.1.

Alaska Native or Native has the meaning as defined in section 1602(b) of title 43 and includes the descendants of individuals so defined. (20 U.S.C. 7546). That definition is: a citizen of the United States who is a person of one-fourth degree or more Alaska Indian (including Tsimshian Indians not enrolled in the Metlaktla Indian Community) Eskimo, or Aleut blood, or combination thereof. The term includes any Native as so defined either or both of whose adoptive parents are not Natives. It also includes, in the absence of proof of a minimum blood quantum, any citizen of the United States who is regarded as an Alaska Native by the Native village or Native group of which he claims to be a member and whose father or mother is (or, if deceased, was) regarded as Native by any village or group. Any decision of the Secretary regarding eligibility for enrollment shall be final. (43 U.S.C. 1602(b))

Alaska Native-serving institution means an institution of higher education that—

(1) Is an eligible institution under section 1058(b) of title 20; and

(2) At the time of application, has an enrollment of undergraduate students that is at least 20 percent Alaska Native students. (20 U.S.C. 1059d)

Fiscal year means the Federal fiscal year—a period beginning on October 1 and ending on the following September 30. (34 CFR 77.1)

Grantee means the legal entity to which a grant is awarded and that is accountable to the Federal Government for the use of the funds provided. The grantee is the entire legal entity even if only a particular component of the entity is designated in the grant award notice (GAN). For example, a GAN may name as the grantee one school or campus of a university. In this case, the granting agency usually intends, or actually intends, that the named component assume primary or sole responsibility for administering the grant-assisted project or program. Nevertheless, the naming of a component of a legal entity as the grantee in a grant award document shall not be construed as relieving the whole legal entity from accountability to the Federal Government for the use of the funds provided. (This definition is not intended to affect the eligibility provision of grant programs in which eligibility is limited to organizations that may be only components of a legal entity.) The term “grantee” does not include any secondary recipients, such as subgrantees and contractors, that may receive funds from a grantee pursuant to a subgrant or contract. (34 CFR 77.1)

Logic model (also referred to as theory of action) means a framework that identifies key project components of the proposed project (i.e., the active “ingredients” that are hypothesized to be critical to achieving the relevant outcomes) and describes the theoretical and operational relationships among the key project components and relevant outcomes. (34 CFR 77.1)

Native Hawaiian means any individual who is—

(1) A citizen of the United States; and

(2) A descendant of the aboriginal people who, prior to 1778, occupied and exercised sovereignty in the area that now comprises the State of Hawaii, as evidenced by—

(i) Genealogical records;

(ii) Kupuna (elders) or Kamaaina (long-term community residents) verification; or

(iii) Certified birth records. (20 U.S.C. 7517)

Native Hawaiian-serving institution means an institution of higher education which—

(1) Is an eligible institution under section 1058(b) of title 20; and

(2) At the time of application, has an enrollment of undergraduate students that is at least 10 percent Native Hawaiian students. (20 U.S.C. 1059d)

Project means the activity described in an application. (34 CFR 77.1)

Project component means an activity, strategy, intervention, process, product, practice, or policy included in a project. Evidence may pertain to an individual project component or to a combination of project components (e.g., training teachers on instructional practices for English learners and follow-on coaching for these teachers). (34 CFR 77.1)

Relevant outcome means the student outcome(s) or other outcome(s) the key project component is designed to improve, consistent with the specific goals of the program. (34 CFR 77.1)

Program Authority: 20 U.S.C. 1059d.

Note: In 2008, the HEA was amended by the Higher Education Opportunity Act of 2008 (HEOA), Pub. L. 110-315. Please note that the ANNH regulations in 34 CFR part 607 have not been updated to reflect these statutory changes. The statute supersedes all other regulations.

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 607.

Note: As of October 1, 2024, grant applicants must follow the provisions stated in the OMB Guidance for Federal Financial Assistance (89 FR 30046, April 22, 2024) when preparing an application.

II. Award Information

Type of Award: Discretionary grants. Five-year Individual Development Grants and Cooperative Arrangement Development Grants will be awarded in FY 2025.

Note: A cooperative arrangement is an arrangement to carry out allowable grant activities between an institution eligible to receive a grant under this part and one or more other eligible or ineligible IHEs, under which the resources of the cooperating institutions are combined and shared to better achieve the purposes of this part and avoid costly duplication of effort.

Estimated Available Funds: $14,800,000.

Contingent upon the availability of funds and the quality of applications, we may make additional awards in subsequent years from the list of unfunded applications from this competition.

Individual Development Grants:

Estimated Range of Awards: $950,000-$1,000,000 per year.

Estimated Average Size of Awards: $975,000 per year.

Maximum Award: We will not make an award exceeding $1,000,000 for a single budget period of 12 months.

Estimated Number of Awards: 10.

Cooperative Arrangement Development Grants:

Estimated Range of Awards: $1,000,000-$1,500,000 per year.

Estimated Average Size of Awards: $1,250,000 per year.

Maximum Award: We will not make an award exceeding $1,500,000 for a single budget period of 12 months.

Estimated Number of Awards: 3.

Note: The Department is not bound by any estimates in this notice.

Project Period: Up to 60 months.

III. Eligibility Information

1. a. Eligible Applicants: This program is authorized by title III, part A, of the HEA. To qualify as an eligible institution under any title III, part A program, an institution must—

(i) Be accredited or preaccredited by a nationally recognized accrediting agency or association that the Secretary has determined to be a reliable authority as to the quality of education or training offered;

(ii) Be legally authorized by the State in which it is located to be a junior or community college or to provide an educational program for which it awards a bachelor's degree;

(iii) Demonstrate that it (1) has an enrollment of needy students as described in 34 CFR 607.3; and (2) has low average education and general expenditures per full-time equivalent (FTE) undergraduate student as described in 34 CFR 607.4.

To qualify as an eligible institution under the ANNH Program at the time of submission of their applications, an institution also must—

Certify that an Alaska Native-serving institution has an enrollment of undergraduate students that are at least 20 percent Alaska Native students or that a Native Hawaiian-serving institution has an enrollment of undergraduate students that is at least 10 percent Native Hawaiian students. An assurance form, which is included in the application materials for this competition, must be signed by an official for the applicant and submitted with this application.

Note: The notice announcing the FY 2025 process for designation of eligible institutions and inviting applications for waiver of eligibility requirements was published in the Federal Register on March 6, 2025 (90 FR 11408). Only institutions that the Department determines as eligible, or which are granted a waiver under the process described in the notice, may apply for a grant in this program.

An eligible IHE may only submit one Individual Development Grant application. However, an eligible IHE may submit one application for an Individual Development Grant and a Cooperative Arrangement Development Grant. Both may be awarded in the same fiscal year. A grantee with an Individual Development Grant or a Cooperative Arrangement Development Grant may be a partner in one or more Cooperative Arrangement Development Grants. The lead institution in a Cooperative Arrangement Development Grant must be an eligible institution. Partners are not required to be eligible institutions. Current program grantees who have an Individual Development Grant under ANNH, Part A may not apply for another Individual Development Grant in this competition unless their grant ends on September 30, 2025.

b. Relationship between the Title III, Part A Programs and the Developing Hispanic-Serving Institutions (HSI) Program: A grantee under the HSI Program, which is authorized under title V of the HEA, may not receive a grant under any HEA, title III, part A program. 20 U.S.C. 1101d. The title III, part A programs are the Strengthening Institutions Program, the ANNH program, the Tribally Controlled Colleges and Universities Program, the Asian American and Native American Pacific Islander-Serving Institutions Program, the Predominantly Black Institutions Program, and the Native American-Serving Nontribal Institutions Program. Furthermore, a current title III, Part A or title V program grantee may not give up its grant to receive a grant under ANNH, as described in 34 CFR 607.2(g)(1).

An eligible HSI that is not a current grantee under the above-cited programs may apply for a FY 2025 grant under all title III, part A programs for which it is eligible, as well as receive consideration for a grant under the HSI program. However, a successful applicant may receive only one grant, as described in 34 CFR 607.2(g)(1).

2. a. Cost Sharing or Matching: This program does not require cost sharing or matching.

b. Supplement-Not-Supplant: This program involves supplement-not-supplant funding requirements. Grant funds must be used so that they supplement and, to the extent practical, increase the funds that would otherwise be available for the activities to be carried out under the grant and in no case supplant those funds (34 CFR 607.30(b)).

c. Indirect Cost Rate Information: A grantee may not use an indirect cost rate to determine allowable cost under its grant (34 CFR 607.30(c)).

d. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

4. Other: General Application Requirements: All applicants must meet the following application requirement in order to be considered for funding. The application requirement is from 34 CFR 75.112 (https://www.ecfr.gov/current/title-34/section-75.112).

Applicants must include a logic model (as defined in 34 CFR 77.1(c)) or other conceptual framework.

IV. Application and Submission Information

1. Application Submission Instructions: Applicants are required to follow the Common Instructions for Applicants to Department of Education Discretionary Grant Programs, published in the Federal Register on December 23, 2024 (89 FR 104528) and available at www.federalregister.gov/documents/2024/12/23/2024-30488/common-instructions-for-applicants-to-department-of-education-discretionary-grant-programs, which contain requirements and information on how to submit an application. Please note that these Common Instructions supersede the version published on December 7, 2022.2.

2. Intergovernmental Review: This program is subject to Executive Order 12372 and the regulations in 34 CFR part 79. Information about Intergovernmental Review of Federal Programs under Executive Order 12372 is in the application package for this program. Please note that, under 34 CFR 79.8(a) (www.ecfr.gov/current/title-34/subtitle-A/part-79/section-79.8#p-79.8(a)), we have shortened the standard 60-day intergovernmental review period in order to make awards by the end of FY 2025.

3. Funding Restrictions: We specify unallowable costs in 34 CFR 607.10(c). We reference additional regulations outlining funding restrictions in the Applicable Regulations section of this notice.

4. Recommended Page Limit: The application narrative is where you, the applicant, address the selection criteria that reviewers use to evaluate your application. We recommend that you limit the application narrative to no more than 55 pages for Individual Development Grants and to no more than 75 pages for Cooperative Arrangement Development Grants. If you are addressing one or both invitational priorities, we recommend that you limit your response to no more than an additional three pages for each priority. Please include a separate heading when responding to a priority. We also recommend that you use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger and no smaller than 10 pitch (characters per inch).

• Use one of the following fonts: Times New Roman, Courier, Courier New, or Arial.

The recommended page limit does not apply to the cover sheet; the budget section, including the narrative budget justification; the assurances and certifications; or the one-page abstract and the bibliography. However, the recommended page limit does apply to all of the application narrative.

Note: The Budget Information-Non-Construction Programs Form (ED 524) Sections A-C do not substitute a response to the Budget selection criterion. A detailed budget and narrative are required in the Budget selection criterion response in order to receive points.

V. Application Review Information

1. Selection Criteria: The following selection criteria for this competition are from 34 CFR 607.22(a) through (g) and 34 CFR 75.210. Applicants should address each of the following selection criteria separately for each proposed activity. The selection criteria are worth a total of 100 points. The maximum score for each criterion is noted in parentheses.

(a) Quality of the applicant's comprehensive development plan. (up to 20 points)

The extent to which—

(1) The strengths, weaknesses, and significant problems of the institution's academic programs, institutional management, and fiscal stability are clearly and comprehensively analyzed and result from a process that involved major constituencies of the institution. (5 points)

(2) The goals for the institution's academic programs, institutional management, and fiscal stability are realistic and based on comprehensive analysis. (5 points)

(3) The objectives stated in the plan are measurable, related to institutional goals, and, if achieved, will contribute to the growth and self-sufficiency of the institution. (5 points)

(4) The plan clearly and comprehensively describes the methods and resources the institution will use to institutionalize practice and improvements developed under the proposed project, including, in particular, how operational costs for personnel, maintenance, and upgrades of equipment will be paid with institutional resources. (5 points)

(b) Quality of activity objectives. (up to 16 points)

The extent to which the objectives for each activity are—

(1) Realistic and defined in terms of measurable results. (8 points)

(2) Directly related to the problems to be solved and to the goals of the comprehensive development plan. (8 points)

(c) Quality of implementation strategy. (up to 16 points)

The extent to which—

(1) The implementation strategy for each activity is comprehensive. (4 points)

(2) The rationale for the implementation strategy for each activity is clearly described and is supported by the results of relevant studies or projects. (4 points)

(3) The timetable for each activity is realistic and likely to be attained. (4 points)

(4) The quality of the logic model or other conceptual framework underlying the proposed project, including how inputs are related to outcomes. (4 points)

(d) Quality of key personnel. (up to 8 points)

The extent to which—

(1) The past experience and training of key professional personnel are directly related to the stated activity objectives. (4 points)

(2) The time commitment of key personnel is realistic. (4 points)

(e) Quality of project management plan. (up to 16 points)

The extent to which—

(1) Procedures for managing the project are likely to ensure efficient and effective project implementation. (8 points)

(2) The project coordinator and activity directors have sufficient authority to conduct the project effectively, including access to the president or chief executive officer. (8 points)

(f) Quality of evaluation plan. (up to 16 points)

The extent to which—

(1) The data elements and the data collection procedures are clearly described and appropriate to measure the attainment of activity objectives and to measure the success of the project in achieving the goals of the comprehensive development plan. (8 points)

(2) The data analysis procedures are clearly described and are likely to produce formative and summative results on attaining activity objectives and measuring the success of the project on achieving the goals of the comprehensive development plan. (8 points)

(g) Budget. (up to 8 points)

The extent to which the proposed costs are necessary and reasonable in relation to the project's objectives and scope.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

A panel of three non-Federal reviewers will review and score each application in accordance with the selection criteria. The applications will be put in a rank order based on the average scores received from the peer review.

In tie-breaking situations for development grants, under 34 CFR 607.23(b), we must award additional tie-breaker points to tied applications in the following three areas. We award one additional point to an application from an IHE that has an endowment fund of which the current market value, per full-time equivalent enrolled student, is less than the average current market value of the endowment funds, per FTE enrolled student, at comparable type institutions that offer similar instruction. We award one additional point to an application from an IHE that has expenditures for library materials per FTE enrolled student that are less than the average expenditure for library materials per FTE enrolled student at similar type institutions. We also add one additional point to an application from an IHE that proposes to carry out one or more of the following activities—

(1) Faculty development;

(2) Funds and administrative management;

(3) Development and improvement of academic programs;

(4) Acquisition of equipment for use in strengthening management and academic programs;

(5) Joint use of facilities; and

(6) Student services.

For the purpose of these funding considerations, we use 2022-2023 data.

If a tie remains after applying the tie-breaker mechanism above, priority will be given to applicants that have the lowest endowment values per FTE enrolled student.

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. See the standards in 2 CFR 170.105 to determine whether you are covered by 2 CFR part 170.

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The performance measures for the ANNH program are established for purposes of Department reporting under 34 CFR 75.110. The objectives of the program are:

(a) The percentage change, over the 5-year period, of the number of full-time degree-seeking undergraduates enrolled at Alaska Native and Native Hawaiian-Serving Institutions (Note: This is a long-term measure, which will be used to periodically gauge performance);

(b) The percentage of first-time, full-time degree-seeking undergraduate students at 4-year Alaska Native and Native Hawaiian-Serving Institutions who were in their first year of postsecondary enrollment in the previous year and are enrolled in the current year at the same Alaska Native and Native Hawaiian-Serving Institution;

(c) The percentage of first-time, full-time degree-seeking undergraduate students at 2-year Alaska Native and Native Hawaiian-Serving Institutions who were in their first year of postsecondary enrollment in the previous year and are enrolled in the current year at the same Alaska Native and Native Hawaiian-Serving Institution;

(d) The percentage of first-time, full-time degree-seeking undergraduate students enrolled at 4-year Alaska Native and Native Hawaiian-Serving Institutions who graduate within 6 years of enrollment; and

(e) The percentage of first-time, full-time degree-seeking undergraduate students enrolled at 2-year Alaska Native and Native Hawaiian-Serving Institutions who graduate within 3 years of enrollment.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application, or whether the continuation of the project is in the best interest of the Federal Government.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced feature at this site, you can limit your search to documents published by the Department.

Signing Authority

This document of the U.S. Department of Education was signed on July, 9 2025, by Christopher J. McCaghren, ED.D, Acting Assistant Secretary Office of Postsecondary Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Sharon Cooke,
Associate Director, Office of the Executive Secretariat, Office of the Secretary, U.S. Department of Education.

[FR Doc. 2025-13153 Filed 7-11-25; 8:45 am]

BILLING CODE 4000-01-P